DEPARTMENT OF HOMELAND SECURITY

Homeland Security Advisory Council

[Docket No. DHS-2005-0042]

Notice

AGENCY: The Homeland Security Advisory Council, Office of the Secretary, Department of Homeland Security.

ACTION: Notice of Federal Advisory Committee meeting.

SUMMARY: The Homeland Security Advisory Council (HSAC) will meet in partially closed session on Thursday, June 23, 2005. The HSAC will meet for purposes of receiving reports and briefings, and holding member deliberations. The HSAC will receive reports from the Private Sector Information Sharing Task Force, the Critical Infrastructure Task Force, and the Prevention of the Entry of Weapons of Mass Effect on American Soil Task Force. The HSAC will also hold roundtable deliberations and discussions among HSAC members.

DATES: This meeting will be held in Washington, DC on Thursday, June 23, 2005.

ADDRESSES: If you desire to submit comments, they must be submitted by June 15, 2005. Comments must be identified by DHS-2005-0042 and may be submitted by one of the following methods:

• EPA Federal Partner EDOCKET Web Site: http://www.epa.gov/feddocket. Follow instructions for submitting comments on the Web site.

• E-mail: HSAC@dhs.gov. Include docket number in the subject line of the message.

• Fax: (202) 772-9718.

• Mail: Katie Knapp, Homeland Security Advisory Council, Department of Homeland Security, Washington, DC 20528.

Docket: For access to the docket to read background documents or comments received, go to http://www.epa.gov/feddocket.

FOR FURTHER INFORMATION CONTACT: Katie Knapp, Homeland Security Advisory Council, Washington, DC 20528, (202) 692-4283, HSAC@dhs.gov.

SUPPLEMENTARY INFORMATION: Notice of this meeting is given under the Federal Advisory Committee Act (FACA), Public Law 92-463, as amended (5 U.S.C. app. 1, et seq.).

Meeting Format

This meeting will be partially closed; the open portions of the meeting for purposes of receiving the Task Force reports listed above will be held at the Park Hyatt, 24th and M Streets, NW., Washington, DC, from 10 a.m. to 12 p.m. The portions of the meeting closed for the purposes of the detailed briefings will be held at The Park Hyatt from 8 a.m. to 10 a.m. and from 12 p.m. to 1:15 p.m. A closed session will then be held at the Department of Homeland Security Headquarters from 2 p.m. to 5 p.m.

Public Attendance

A limited number of members of the public may register to attend the public session on a first-come, first-served basis per the procedures that follow. Security requires that any member of the public who wishes to attend the public session provide his or her name and date of birth no later than 5 p.m., e.s.t., on June 15, 2005, to the Agency Official (listed above) via e-mail at HSAC@dhs.gov or via phone at (202) 692-4283. Persons with disabilities who require special assistance should indicate so in their admittance request and are encouraged to indicate their desires to attend and anticipated special needs as early as possible. Photo identification will be required for entry into the public session, and everyone in attendance must be present and seated by 9:45 a.m.

Basis for Closure: In accordance with section 10 (d) of FACA, the Secretary has issued a determination that the closed portions of this HSAC meeting will be addressing specific law enforcement issues and classified information which, if disclosed, would be likely to significantly frustrate implementation of a proposed agency action which has not been disclosed to the public nor is required by law to be disclosed to the public. Accordingly, the Secretary has determined that these portions of the meeting shall be closed pursuant to 5 U.S.C. App. 10(d) and 5 U.S.C. 552b(c).

Dated: June 3, 2005.
Michael Chertoff,
Secretary.

[FR Doc. 05-11436 Filed 6-7-05; 8:45 am]

BILLING CODE 4410-10-P